DEPARTMENT OF TRANSPORTATION

Federal Aviation Administration

Noise Exposure Map Notice; Receipt of Noise Compatibility Program and Request for Review Boise Air Terminal (Gowen Field) Boise, ID; Correction

AGENCY: Federal Aviation Administration, DOT.

ACTION: Notice of Noise Exposure Maps, Correction.

SUMMARY: This action corrects the noise exposure map notice and receipt of noise compatibility program and request for review published on May 10, 2016. In that document, the FAA has determinied that the noise exposure maps submitted by the City of Boise, ID, for the Boise Air Terminal (Gowen Field), Boise, ID, are in compliance with applicable requirements, and that it is reviewing a proposed noise compatibility program that was submitted for Boise Air Terminal (Gowen Field) under part 150 in conjunction with the Noise Exposure Map, and that this program be approved or disapproved on or before October 29, 2016. This document corrects an error in the Supplementary Information showing Great Falls International Airport instead of Boise Air Terminal (Gowen Field).

DATES: The comment period ends July 1, 2016.

FOR FURTHER INFORMATION CONTACT: Scott Eaton, Community Planner, HLN-612, Federal Aviation Administration, Helena Airports District Office, FAA Building, Ste 2, 2725 Skyway Drive, Helena, MT 59502, telephone (406) 449-5291, facsimile, (406) 449-5274.

SUPPLEMENTARY INFORMATION: On May 10, 2016, the FAA published a notice titled “Noise Exposure Map Notice; Receipt of Noise Compatibility Program and Request for Review” (81 FR 28933). In that Notice, the FAA announces its compliance with noise exposure maps submitted for Boise Air Terminal (Gowen Field), Boise, ID, and also announces that it is reviewing a proposed noise compatibility program submitted in conjunction with the noise exposure map.

In the Federal Register of May 10, 1016, FR Doc. 2016-10981, make the following correction:

On page 28933, column 2, line 22, remove Great Falls International Airport and add in its place Boise Air Terminal (Gowen Field).

Issued in Washington, DC, on May 10, 2016.
Elliott Black,
Director, Office of Airport Planning and Programming.

[FR Doc. 2016-11503 Filed 5-13-16; 8:45 am]

BILLING CODE 4910-13-P